NATIONAL SCIENCE FOUNDATION

Advisory Committee for Geosciences; Notice of Meeting

In accordance with the Federal Advisory Committee Act (Pub. L. 92 -463, as amended), the National Science Foundation (NSF) announces the following meeting:

NAME AND COMMITTEE CODE: Advisory Committee for Geosciences (1755).

DATE AND TIME: October 13-14, 2021; 11:00 a.m.-4:30 p.m. EDT.

PLACE: National Science Foundation, 2415 Eisenhower Avenue, Alexandria, VA 22314/Virtual Meeting registration information is available on the GEO Advisory Committee website at https://www.nsf.gov/geo/advisory.jsp.

TYPE OF MEETING: Open.

CONTACT PERSON: Melissa Lane, National Science Foundation, Room C 8000, 2415 Eisenhower Avenue, Alexandria, Virginia 22314; Phone 703-292-8500

MINUTES: May be obtained from the contact person listed above.

PURPOSE OF MEETING: To provide advice, recommendations, and oversight on support for geoscience research and education including atmospheric, geo-space, earth, ocean and polar sciences.

Agenda

October 13, 2021

• Directorate and NSF activities and plans

• Discussion of the Administration and NSF Focus Area on Climate Change

• Discussion of the Recently Released NASEM Earth System Science Study

• Briefing on the Future TIP Directorate

October 14, 2021

• Report outs from Division Meetings

• Update on OPP Activities

• Report on the EAR Committee of Visitors Meeting

• Report on the GEO Education & Diversity Committee of Visitors Meeting

• Meeting with the NSF Director and Chief Operating Officer

• Action Items/Planning for Spring 2022 Meeting

Dated: September 15, 2021.
Crystal Robinson,
Committee Management Officer.

[FR Doc. 2021-20289 Filed 9-17-21; 8:45 am]

BILLING CODE 7555-01-P